DEPARTMENT OF LABOR

Employment and Training Administration

[TA-W-55,644]

Modine Manufacturing Company, Emporia, KS; Notice of Termination of Investigation

Pursuant to section 221 of the Trade Act of 1974, as amended, an investigation was initiated on September 21, 2004, in response to a petition filed by a company official on behalf of workers at Modine Manufacturing Company, Emporia, Kansas.

The petitioner has requested that the petition be withdrawn. Consequently, the investigation has been terminated.

Signed in Washington DC this 12th day of October, 2004.
Richard Church,
Certifying Officer, Division of Trade Adjustment Assistance.

[FR Doc. E4-2849 Filed 10-25-04; 8:45 am]

BILLING CODE 4510-30-P